DEPARTMENT OF JUSTICE

Drug Enforcement Administration

Manufacturer of Controlled Substances; Notice of Application

Pursuant to § 1301.33(a) of Title 21 of the Code of Federal Regulations (CFR), this is notice that on April 26, 2002, AccuStandard, Inc., 125 Market Street, New Haven, Connecticut 06513, made application by letter to the Drug Enforcement Administration (DEA) for registration as a bulk manufacturer of the basic classes of controlled substances listed below:

Drug | Schedule
N-Ethylamphetamine (1475) | I
N,N-Dimethylamphetamine (1480) | I
Fenethylline (1503) | I
Mecloqualone (2572) | I
Alpha-Ethyltryptamine (7249) | I
3,4,5-Trimethoxyamphetamine (7390) | I
2,5-Dimethoxy-4-ethylamphetamine (7399) | I
5-Methoxy-3,4-methylenedioxyamphetamine (7401) | I
Diethyltryptamine (7434) | I
Dimethyltryptamine (7435) | I
Psilocybin (7437) | I
Psilocyn (7438) | I
N-Ethyl-1-phenylcyclohexylamine (7455) | I
1-(1-Phenylcyclohexyl)pyrrolidine (PCPY) (7458) | I
1-[1-(2-Thieynyl) cyclohexyl]pyrrolidine TCPY (7473) | I
N-Ethyl-3-piperidyl benzilate (7482) | I
N-Methyl-3-piperidyl benzilate (7484) | I
Acetyldihydrocodeine (9051) | I
Benzylmorphine (9052) | I
Desomorphine (9055) | I
Codeine methylbromide (9070) | I
Difenoxin (9168) | I
Hydromorphinol (9301) | I
Methyldihydromorphine (9304) | I
Morphine methylbromide (9305) | I
Morphine methylsulfonate (9306) | I
Nicomorphine (9312) | I
Drotebanol (9335) | I
Allylprodine (9602) | I
Alphamethadol (9605) | I
Betaprodine (9611) | I
Clonitazene (9612) | I
Dextromoramide (9613) | I
Diampromide (9615) | I
Diethylthiambutene (9616) | I
Dimenoxadol (9617) | I
Dimepheptadol (9618) | I
Dimethylthiambutene (9619) | I
Dioxaphetyl butyrate (9621) | I
Dipipanone (9622) | I
Ethylmethylthiambutene (9623) | I
Furethidine (9626) | I
Hydromorphinol (9627) | I
Ketobemidone (9628) | I
Morpheridine (9632) | I
Noracymethadol (9633) | I
Normethadone (9635) | I
Norpipanone (9636) | I
Phenadoxnone (9637) | I
Phenampromide (9638) | I
Phenoperidine (9641) | I
Piritramide (9642) | I
Proheptazine (9643) | I
Properidine (9644) | I
Propiram (9649) | I
1-Methyl-4-phenyl-4-propionoxypiperidine (9661) | I
1-(Phenylethyl)-4-phenyl-4-acetoxypiperidine (9663) | I
Tilidine (9750) | I
Para-Fluorofentanyl (9812) | I
3-Methylfentanyl (9813) | I
Alpha-methylfentanyl (9814) | I
Acetyl-alpha-methylfentanyl (9815) | I
Beta-hydroxyfentanyl (9830) | I
Beta-hydroxy-3-methylfentanyl (9831) | I
Alpha-Methylthiofentanyl (9832) | I
3-Methylthiofentanyl (9833) | I
Thiofentanyl (9835) | I
Nabilone (7379) | II
1-Phenylcylohexylamine (7460) | II
Phenylacetone (8501) | II
1-Piperidinocyclohexanecarbonitrile (8603) | II
Isomethadone (9226) | II
Metopon (9260) | II
Piminodine (9730) | II
Racemorphan (9733) | II
Bezitramide (9800) | II

The firm plans to manufacture small quantities of the listed controlled substances to make reference standards.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than (60 days from publication).

Dated: August 28, 2002.
Laura M. Nagel,
Deputy Assistant Administrator, Office of Diversion Control, Drug Enforcement Administration.

[FR Doc. 02-26607 Filed 10-17-02; 8:45 am]

BILLING CODE 4410-09-M